DEPARTMENT OF HOMELAND SECURITY

Federal Emergency Management Agency

[Docket ID FEMA-2013-0002; Internal Agency Docket No. FEMA-B-1340]

Proposed Flood Hazard Determinations

AGENCY: Federal Emergency Management Agency, DHS.

ACTION: Notice.

SUMMARY: Comments are requested on proposed flood hazard determinations, which may include additions or modifications of any Base Flood Elevation (BFE), base flood depth, Special Flood Hazard Area (SFHA) boundary or zone designation, or regulatory floodway on the Flood Insurance Rate Maps (FIRMs), and where applicable, in the supporting Flood Insurance Study (FIS) reports for the communities listed in the table below. The purpose of this notice is to seek general information and comment regarding the preliminary FIRM, and where applicable, the FIS report that the Federal Emergency Management Agency (FEMA) has provided to the affected communities. The FIRM and FIS report are the basis of the floodplain management measures that the community is required either to adopt or to show evidence of having in effect in order to qualify or remain qualified for participation in the National Flood Insurance Program (NFIP). In addition, the FIRM and FIS report, once effective, will be used by insurance agents and others to calculate appropriate flood insurance premium rates for new buildings and the contents of those buildings.

DATES: Comments are to be submitted on or before November 7, 2013.

ADDRESSES: The Preliminary FIRM, and where applicable, the FIS report for each community are available for inspection at both the online location and the respective Community Map Repository address listed in the tables below. Additionally, the current effective FIRM and FIS report for each community are accessible online through the FEMA Map Service Center at www.msc.fema.gov for comparison.

You may submit comments, identified by Docket No. FEMA-B-1340, to Luis Rodriguez, Chief, Engineering Management Branch, Federal Insurance and Mitigation Administration, FEMA, 500 C Street SW., Washington, DC 20472, (202) 646-4064, or (email) Luis.Rodriguez3@fema.dhs.gov.

FOR FURTHER INFORMATION CONTACT: Luis Rodriguez, Chief, Engineering Management Branch, Federal Insurance and Mitigation Administration, FEMA, 500 C Street SW., Washington, DC 20472, (202) 646-4064, or (email) Luis.Rodriguez3@fema.dhs.gov; or visit the FEMA Map Information eXchange (FMIX) online at www.floodmaps.fema.gov/fhm/fmx_main.html.

SUPPLEMENTARY INFORMATION: FEMA proposes to make flood hazard determinations for each community listed below, in accordance with section 110 of the Flood Disaster Protection Act of 1973, 42 U.S.C. 4104, and 44 CFR 67.4(a).

These proposed flood hazard determinations, together with the floodplain management criteria required by 44 CFR 60.3, are the minimum that are required. They should not be construed to mean that the community must change any existing ordinances that are more stringent in their floodplain management requirements. The community may at any time enact stricter requirements of its own or pursuant to policies established by other Federal, State, or regional entities. These flood hazard determinations are used to meet the floodplain management requirements of the NFIP and also are used to calculate the appropriate flood insurance premium rates for new buildings built after the FIRM and FIS report become effective.

The communities affected by the flood hazard determinations are provided in the tables below. Any request for reconsideration of the revised flood hazard information shown on the Preliminary FIRM and FIS report that satisfies the data requirements outlined in 44 CFR 67.6(b) is considered an appeal. Comments unrelated to the flood hazard determinations also will be considered before the FIRM and FIS report become effective.

Use of a Scientific Resolution Panel (SRP) is available to communities in support of the appeal resolution process. SRPs are independent panels of experts in hydrology, hydraulics, and other pertinent sciences established to review conflicting scientific and technical data and provide recommendations for resolution. Use of the SRP only may be exercised after FEMA and local communities have been engaged in a collaborative consultation process for at least 60 days without a mutually acceptable resolution of an appeal. Additional information regarding the SRP process can be found online at http://floodsrp.org/pdfs/srp_fact_sheet.pdf.

The watersheds and/or communities affected are listed in the tables below. The Preliminary FIRM, and where applicable, FIS report for each community are available for inspection at both the online location and the respective Community Map Repository address listed in the tables. Additionally, the current effective FIRM and FIS report for each community are accessible online through the FEMA Map Service Center at www.msc.fema.gov for comparison.

Community | Community map repository address
Story County, Iowa, and Incorporated Areas
Maps Available for Inspection Online at: www.fema.gov/preliminaryfloodhazarddata
City of Ames | Department of Planning and Housing, City Hall, 515 Clarke Avenue, Ames, IA 50010.
Unincorporated Areas of Story County | Story County Planning and Zoning Department, 900 Sixth Street, Nevada, IA 50201.
Warren County, Iowa, and Incorporated Areas
Maps Available for Inspection Online at: http://www.fema.gov/preliminaryfloodhazarddata
City of Carlisle | City Hall, 195 North First Street, Carlisle, IA 50047.
City of Cumming | City Hall, 649 North 44th Street, Cumming, IA 50061.
City of Des Moines | City Hall, 400 Robert D Ray Drive, Des Moines, IA 50309.
City of Norwalk | City Hall, 705 North Avenue, Norwalk, IA 50211.
Unincorporated Areas of Warren County | County Courthouse, 301 North Buxton Street, Suite 212, Indianola, IA 50125.
Pottawatomie County, Kansas, and Incorporated Areas
Maps Available for Inspection Online at: www.fema.gov/preliminaryfloodhazarddata
City of St. George | City Hall, 220 First Street, St. George, KS 66535.
Unincorporated Areas of Pottawatomie County | County Office Building, 207 North First Street, Westmoreland, KS 66549.
Kandiyohi County, Minnesota, and Incorporated Areas
Maps Available for Inspection Online at: www.fema.gov/preliminaryfloodhazarddata
City of Lake Lillian | City Hall, 531 Lakeview Street, Lake Lillian, MN 56253.
City of New London | City Hall, 20 1st Avenue Southwest, New London, MN 56273.
City of Raymond | City Office, 208 Cofield Street, Raymond, MN 56282.
City of Regal | Mayor's Residence, 14465 293rd Avenue Northeast, Belgrade, MN 56312.
City of Spicer | City Hall, 217 Hillcrest Avenue, Spicer, MN 56288.
City of Willmar | City Office Building, 333 6th Street Southwest, Willmar, MN 56201.
Unincorporated Areas of Kandiyohi County | Kandiyohi County Office Building, 400 Benson Avenue Southwest, Willmar, MN 56201.
Upper Ohio-Shade Watershed
Athens County, Ohio, and Incorporated Areas
Maps Available for Inspection Online at: http://www.starr-team.com/starr/RegionalWorkspaces/RegionV/AthensOH/Preliminary%20Maps/Forms/AllItems.aspx
City of Athens | 8 East Washington Street, Athens, OH 45701.
City of Nelsonville | 211 Lake Hope Drive, Nelsonville, OH 45764.
Unincorporated Areas of Athens County | 28 Curan Drive, Athens, OH 45701.
Village of Chauncey | 42 Converse Street, Chauncey, OH 45719.
Multnomah County, Oregon, and Incorporated Areas
Maps Available for Inspection Online at: http://www.starr-team.com/starr/RegionalWorkspaces/RegionX/GreshamPMR/Preliminary%20Maps/Forms/AllItems.aspx
City of Fairview | City Hall, 1300 Northeast Village Street, Fairview, OR 97024.
City of Gresham | City Hall, Community Development Office, 1333 Northwest Eastman Parkway, Gresham, OR 97030.
Unincorporated Areas of Multnomah County | Multnomah County Office of Land Use and Planning, 1600 Southeast 190th Avenue, Portland, OR 97214.
King County, Washington, and Incorporated Areas
Maps Available for Inspection Online at: http://www.starr-team.com/starr/RegionalWorkspaces/RegionX/KingCountyCoastal/SitePages/Home.aspx
City of Bothell | City Hall, 18305 101st Avenue Northeast, Bothell, WA 98011.
City of Burien | City Hall, 400 Southwest 152nd Street, Suite 300, Burien, WA 98166.
City of Des Moines | City Engineering Department, 21650 11th Avenue South, Suite D, Des Moines, WA 98198.
City of Federal Way | City Hall, 33325 8th Avenue South, Federal Way, WA 98003.
City of Kenmore | City Hall, 18120 68th Avenue Northeast, Kenmore, WA 98028.
City of Kirkland | City Hall, 123 5th Avenue, Kirkland, WA 98033.
City of Normandy Park | City Hall, 801 Southwest 174th Street, Normandy Park, WA 98166.
City of Redmond | City Hall, 15670 Northest 85th Street, Redmond, WA 98703.
City of Seattle | City Hall, 600 4th Avenue, Seattle, WA 98124.
City of Shoreline | City Hall, 17500 Midvale Avenue North, Shoreline, WA 98133.
City of Tukwila | City Hall, 6200 Southcenter Boulevard, Tukwila, WA 98188.
City of Woodinville | City Hall, 17301 133rd Avenue Northeast, Woodinville, WA 98072.
Unincorporated Areas of King County | Department of Water and Land Resources, 201 South Jackson Street, Suite 600, Seattle, WA 98104.
Dane County, Wisconsin, and Incorporated Areas
Maps Available for Inspection Online at: www.fema.gov/preliminaryfloodhazarddata
City of Edgerton | City Hall, 12 Albion Street, Edgerton, WI 53534.
City of Madison | City Hall, 210 Martin Luther King Jr. Boulevard, Room 403, Madison, WI 53703.
City of Middleton | City Hall, 7426 Hubbard Avenue, Middleton, WI 53562.
City of Stoughton | City Hall, 381 East Main Street, Stoughton, WI 53589.
City of Sun Prairie | City Hall, 300 East Main Street, Sun Prairie, WI 53590.
Unincorporated Areas of Dane County | City County Building, 210 Martin Luther King Jr. Boulevard, Room 116, Madison, WI 53703.
Village of Cambridge | Village Hall, 200 South Spring Street, Cambridge, WI 53523.
Village of Cottage Grove | Village Hall, 221 East Cottage Grove Road, Cottage Grove, WI 53527.
Village of De Forest | Village Hall, 306 DeForest Street, DeForest, WI 53532.
Village of Deerfield | Village Hall, 4 North Main Street, Deerfield, WI 53531.
Village of Marshall | Village Hall, 130 South Pardee Street, Marshall, WI 53559.
Village of McFarland | Village Hall, 5915 Milwaukee Street, McFarland, WI 53558.
Village of Oregon | Village Hall, 117 Spring Street, Oregon, WI 53575.
Village of Rockdale | Village Hall, 148 Water Street, Rockdale, WI 53523.
Village of Waunakee | Village Hall, 500 West Main Street, Waunakee, WI 53597.

(Catalog of Federal Domestic Assistance No. 97.022, “Flood Insurance.”)

Date: July 26, 2013.
Roy E. Wright,
Deputy Associate Administrator for Mitigation, Department of Homeland Security, Federal Emergency Management Agency.

[FR Doc. 2013-19328 Filed 8-8-13; 8:45 am]

BILLING CODE 9110-12-P